DEPARTMENT OF LABOR

Employment and Training Administration

[TA-W-58,827]

Stucki Embroidery Works, Inc., Fairview, NJ; Notice of Affirmative Determination Regarding Application for Reconsideration

By application of May 17, 2006, a company official requested administrative reconsideration of the Department of Labor's Notice of Negative Determination Regarding Eligibility to Apply for Worker Adjustment Assistance, applicable to workers of the subject firm. The determination was issued on April 14, 2006. The Department's Notice of determination was published in the Federal Register on April 24, 2006 (71 FR 21044). Workers produced embroidered stars for American flags.

In the request for reconsideration, the company official stated that the subject firm produces a variety of products, including embroidered stars and lace.

A review of previously-submitted material reveal that another company official indicated that the subject workers produced embroidered star fields for American flags.

The Department has carefully reviewed the request for reconsideration based on new information provided and review of the initial decision and has determined that the Department will conduct further investigation.

Conclusion

After careful review of the application, I conclude that the claim is of sufficient weight to justify reconsideration of the Department of Labor's prior decision. The application is, therefore, granted.

Signed at Washington, DC, this 22nd day of May 2006.
Elliott S. Kushner,
Certifying Officer, Division of Trade Adjustment Assistance.

[FR Doc. E6-8769 Filed 6-6-06; 8:45 am]

BILLING CODE 4510-30-P